FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Miami Envios Express Inc., 7468 SW 117 Ave., Miami, FL 33183. Officers: Mauricio Perez, President (Qualifying Individual), Freddy Acevedo, Secretary.

Len-Mar Shipping LLC, 710 Schenck Ave., Brooklyn, NY 11207. Officer: Lennox P. Bobb, President (Qualifying Individual).

Montero Express Cargo, Inc., 7705 NW 29 Street, Unit 101, Doral, FL 33122. Officers: Jose L. Montero, Vice President (Qualifying Individual), Enrique A. Montero, President.

Comercial Andina Import & Export Corporation, 782 NW 42 Avenue, #431, Miami, FL 33126. Officers: Patricia Nazar, President (Qualifying Individual), Patricia Kokaly, Vice President.

Imodal Limited Liability Company dba Imodal, 224 Datura Street, Ste. 214, West Palm Beach, FL 33401. Officer: Joseph A. Dymkowski, Member/Manager (Qualifying Individual).

Trade & Traffic Corp, 8358 NW 66th Street, Miami, FL 33166. Officer: Gardenia Y. Cantos, President (Qualifying Individual).

Nippon Express U.S.A. (Illinois), Inc., dba Arrow International GNS, Arrow Pacific, Arrow Atlantic, 950 N. Edgewood Avenue, Wood Dale, IL 60191-1257. Officer: Hirotaka Hara, Vice President (Qualifying Individual).

RCB Logistics Corp., 67 West Merrick Road, Valley Stream, NY 11580. Officers: Salvatore Distefano, President (Qualifying Individual), Enzo Matranga, Director.

Miami Shipping Services, Inc., dba Richard Shipping Services, 3560 N.W. 34 Street, Miami, FL 33142. Officer: Kevin Arango, Vice President (Qualifying Individual).

Awilda Shipping, Inc., 41-02 108th Street, Corona, NY 11368. Officers: Ynocencia Del Villar, President (Qualifying Individual), Jorge Perez, Vice President.

Non-Vessel-Operating Common Carrier and Ocean Freight Forwarder Transportation Intermediary Applicants

Air&Ocean Cargo Logistics, Inc., 12612 Greentree Ave., Garden Grove, CA 92840. Officers: Mimi Du Lai, President, (Qualifying Individual), Tuan A. Luong, Secretary.

Moon Logistics Inc. dba M Global Logistics, 879 W. 190th Street, Ste. 940, Gardena, CA 90248. Officers: Terri E. Yi, Secretary, (Qualifying Individual), Dae Ho Moon, President.

AGUNSA Logistics & Distribution (Los Angeles), Inc., 19600 So. Alameda Street, Rancho Dominguez, CA 90221. Officers: Stanley J. Jozwiak, President (Qualifying Individual), Bert A. Johnson, Managing Director.

Hua Feng (USA) Logistics Inc., 11222 S. La Cienega Blvd., Ste. 100, Inglewood, CA 90304. Officer: Dong Wang, President (Qualifying Individual).

InterChez Global Services, Inc., 3924 Clock Pointe Trail, Ste. 101, Stow, OH 44224. Officer: David K. Matts, V.P. Marketing (Qualifying Individual).

Ocean Freight Forwarder—Ocean Transportation Intermediary Applicants

LB&B Associates Inc., 9891 Broken Land Parkway, #400, Columbia, MD 21046. Officers: James Ryan, V. P. of Logistics (Qualifying Individual), Lily A. Brandon, Chairman.

John Judabong dba Juda Trade, 2723 Fairlane Place, Chino Hills, CA 91709. Officer: John Judabong, President, (Qualifying Individual).

J & S Universal Services, Inc., dba Patrick & Rosenfeld Shipping Corp., 12972 SW 133 Court, Miami, FL 33186. Officer: Juan C. Gonzalez, President (Qualifying Individual).

HTS, Inc. dba Harte-Hanks Logistics, 1525 NW 3rd Street, Ste. 21, Deerfield Beach, FL 33442. Officer: Thomas C. Pidgeon, Vice President (Qualifying Individual).

Proservi, Inc., 2995 NW 95th Street, Miami, FL 33147. Officers: Miguel A. Enriquez, Vice President (Qualifying Individual), Ada B. Paz, President.

Universal Logistics, Inc., 2700 Greens Rd., Ste. K400, Houston, TX 77032. Officers: Tamara Cato, Vice President (Qualifying Individual), David B. Rogers, President.

Texas Time Express, 801-B Port America Place, Grapevine, TX 76051. Officers: Brian Rumph, Vice President (Qualifying Individual), Doug Tabor, President.

Dated: July 24, 2009.
Tanga S. FitzGibbon,
Assistant Secretary.

[FR Doc. E9-18095 Filed 7-28-09; 8:45 am]

BILLING CODE 6730-01-P